DEPARTMENT OF ENERGY

Federal Energy Regulatory Commission

Combined Notice of Filings

Take notice that the Commission has received the following Natural Gas Pipeline Rate and Refund Report filings:

Filings Instituting Proceedings

Docket Numbers: RP17-132-000.

Applicants: Equitrans, L.P.

Description: Compliance filing Operational Purchases and Sales Report for 2016.

Filed Date: 11/1/16.

Accession Number: 20161101-5035.

Comments Due: 5 p.m. ET 11/14/16.

Docket Numbers: RP17-133-000.

Applicants: Northern Border Pipeline Company.

Description: § 4(d) Rate Filing: James Valley Ethanol Neg Rate Agmt to be effective 11/1/2016.

Filed Date: 11/1/16.

Accession Number: 20161101-5036.

Comments Due: 5 p.m. ET 11/14/16.

Docket Numbers: RP17-134-000.

Applicants: Algonquin Gas Transmission, LLC.

Description: § 4(d) Rate Filing: Negotiated Rates—BUG Releases eff 11-1-2016 to be effective 11/1/2016.

Filed Date: 11/1/16.

Accession Number: 20161101-5047.

Comments Due: 5 p.m. ET 11/14/16.

Docket Numbers: RP17-135-000.

Applicants: Equitrans, L.P.

Description: § 4(d) Rate Filing: Negotiated Capacity Release Agreements—11/1/2016 to be effective 11/1/2016.

Filed Date: 11/1/16.

Accession Number: 20161101-5051.

Comments Due: 5 p.m. ET 11/14/16.

Docket Numbers: RP17-136-000.

Applicants: Texas Gas Transmission, LLC.

Description: § 4(d) Rate Filing: Superseding NC Agmt Filing (Atmos 21789) to be effective 11/1/2016.

Filed Date: 11/1/16.

Accession Number: 20161101-5056.

Comments Due: 5 p.m. ET 11/14/16.

Docket Numbers: RP17-137-000.

Applicants: Texas Gas Transmission, LLC.

Description: § 4(d) Rate Filing: NSAP Project-related Negotiated Rate Agmts to be effective 11/1/2016.

Filed Date: 11/1/16.

Accession Number: 20161101-5058.

Comments Due: 5 p.m. ET 11/14/16.

Docket Numbers: RP17-138-000.

Applicants: Texas Gas Transmission, LLC.

Description: § 4(d) Rate Filing: Neg Rate Agmt Filing (Tenaska 35784) to be effective 11/1/2016.

Filed Date: 11/1/16.

Accession Number: 20161101-5059.

Comments Due: 5 p.m. ET 11/14/16.

Docket Numbers: RP17-139-000.

Applicants: Texas Gas Transmission, LLC.

Description: § 4(d) Rate Filing: Housekeeping Matters to be effective 12/1/2016.

Filed Date: 11/1/16.

Accession Number: 20161101-5061.

Comments Due: 5 p.m. ET 11/14/16.

Docket Numbers: RP17-140-000.

Applicants: Texas Gas Transmission, LLC.

Description: § 4(d) Rate Filing: Neg Rate Agmt Filing (Midwest Natural 35495) to be effective 11/1/2016.

Filed Date: 11/1/16.

Accession Number: 20161101-5062.

Comments Due: 5 p.m. ET 11/14/16.

Docket Numbers: RP17-141-000.

Applicants: Algonquin Gas Transmission, LLC.

Description: § 4(d) Rate Filing: Negotiated Rate—ConEd Release to Trident to be effective 11/1/2016.

Filed Date: 11/1/16.

Accession Number: 20161101-5067.

Comments Due: 5 p.m. ET 11/14/16.

Docket Numbers: RP17-142-000.

Applicants: Columbia Gas Transmission, LLC.

Description: § 4(d) Rate Filing: OTRA—Winter 2016 to be effective 12/1/2016.

Filed Date: 11/1/16.

Accession Number: 20161101-5081.

Comments Due: 5 p.m. ET 11/14/16.

Docket Numbers: RP17-143-000.

Applicants: Gulf South Pipeline Company, LP.

Description: § 4(d) Rate Filing: 2016 Fuel Tracker Filing (Initial Filing) to be effective 4/1/2017.

Filed Date: 11/1/16.

Accession Number: 20161101-5089.

Comments Due: 5 p.m. ET 11/14/16.

Docket Numbers: RP17-144-000.

Applicants: Rockies Express Pipeline LLC.

Description: § 4(d) Rate Filing: Neg Rate 2016-11-01 Encana, CP to be effective 11/1/2016.

Filed Date: 11/1/16.

Accession Number: 20161101-5091.

Comments Due: 5 p.m. ET 11/14/16.

Docket Numbers: RP17-145-000.

Applicants: Rockies Express Pipeline LLC.

Description: Compliance filing Neg Rates many Ks Capacity Enhancement Compliance CP15-137 to be effective 12/1/2016.

Filed Date: 11/1/16.

Accession Number: 20161101-5106.

Comments Due: 5 p.m. ET 11/14/16.

Docket Numbers: RP17-146-000.

Applicants: Kern River Gas Transmission Company.

Description: § 4(d) Rate Filing: 2017 May Period Two Rate to be effective 5/1/2017.

Filed Date: 11/1/16.

Accession Number: 20161101-5107.

Comments Due: 5 p.m. ET 11/14/16.

Docket Numbers: RP17-147-000.

Applicants: Algonquin Gas Transmission, LLC.

Description: § 4(d) Rate Filing: Negotiated Rates—Plymouth 792512 & So Jersey 792522 to be effective 11/1/2016.

Filed Date: 11/1/16.

Accession Number: 20161101-5110.

Comments Due: 5 p.m. ET 11/14/16.

Docket Numbers: RP17-148-000.

Applicants: Algonquin Gas Transmission, LLC.

Description: § 4(d) Rate Filing: Negotiated Rates—IDT Ramapo Releases eff 11-1-2016 to be effective 11/1/2016.

Filed Date: 11/1/16.

Accession Number: 20161101-5111.

Comments Due: 5 p.m. ET 11/14/16.

Docket Numbers: RP17-149-000.

Applicants: Algonquin Gas Transmission, LLC.

Description: § 4(d) Rate Filing: Negotiated Rates—Plymouth Rock Ramapo Releases eff 11-1-2016 to be effective 11/1/2016.

Filed Date: 11/1/16.

Accession Number: 20161101-5112.

Comments Due: 5 p.m. ET 11/14/16.

Docket Numbers: RP17-150-000.

Applicants: Texas Eastern Transmission, LP.

Description: § 4(d) Rate Filing: Negotiated Rates—ConEd Nov 2016 Release to Entrust 8943503 to be effective 11/1/2016.

Filed Date: 11/1/16.

Accession Number: 20161101-5150.

Comments Due: 5 p.m. ET 11/14/16.

Docket Numbers: RP17-151-000.

Applicants: ANR Pipeline Company.

Description: § 4(d) Rate Filing: 3 Amended Negotiated Rate Agreements to be effective 11/1/2016.

Filed Date: 11/1/16.

Accession Number: 20161101-5186.

Comments Due: 5 p.m. ET 11/14/16.

Docket Numbers: RP17-152-000.

Applicants: Dauphin Island Gathering Partners.

Description: § 4(d) Rate Filing: Negotiated Rate Filing 11-1-2016 to be effective 11/1/2016.

Filed Date: 11/1/16.

Accession Number: 20161101-5201.

Comments Due: 5 p.m. ET 11/14/16.

Docket Numbers: RP17-153-000.

Applicants: Algonquin Gas Transmission, LLC.

Description: § 4(d) Rate Filing: Negotiated Rate—BUG Release to Trident eff 11-2-16 to be effective 11/2/2016.

Filed Date: 11/1/16.

Accession Number: 20161101-5202.

Comments Due: 5 p.m. ET 11/14/16.

Docket Numbers: RP17-154-000.

Applicants: Enable Gas Transmission, LLC.

Description: § 4(d) Rate Filing: Negotiated Rate Filing—November 2016 LER 1008744 Removal to be effective 11/1/2016.

Filed Date: 11/1/16.

Accession Number: 20161101-5203.

Comments Due: 5 p.m. ET 11/14/16.

Docket Numbers: RP17-155-000.

Applicants: Enable Gas Transmission, LLC.

Description: § 4(d) Rate Filing: Negotiated Rate Filing—November 2016 Trans Louisiana 1010877 to be effective 11/1/2016.

Filed Date: 11/1/16.

Accession Number: 20161101-5209.

Comments Due: 5 p.m. ET 11/14/16.

Docket Numbers: RP17-156-000.

Applicants: Rockies Express Pipeline LLC.

Description: Compliance filing Capacity Enhancement Compliance to be effective 12/1/2016.

Filed Date: 11/1/16.

Accession Number: 20161101-5210.

Comments Due: 5 p.m. ET 11/14/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated November 2, 2016.
Nathaniel J. Davis, Sr.,
Deputy Secretary.

[FR Doc. 2016-26993 Filed 11-8-16; 8:45 am]

BILLING CODE 6717-01-P